DEPARTMENT OF HOUSING AND URBAN DEVELOPMENT

24 CFR Part 982

[Docket No. FR-5453-C-03]

RIN 2577-AC86

Housing Choice Voucher Program: Streamlining the Portability Process

AGENCY: Office of General Counsel, HUD.

ACTION: Final rule, technical correction.

SUMMARY: This document corrects an inadvertent omission of regulatory text in HUD's final rule on Housing Choice Voucher Program: Streamlining the Portability Process, published on August 20, 2015.

DATES: Effective Date: September 21, 2015.

FOR FURTHER INFORMATION CONTACT: For further information about this technical correction, contact Camille E. Acevedo, Associate General Counsel for Legislation and Regulations, Office of General Counsel, Department of Housing and Urban Development, 451 7th Street SW., Room 10282, Washington, DC 20410-0500, telephone number 202-708-1793 (this is not a toll-free number). Individuals with speech or hearing impairments may access this number through TTY by calling the Federal Relay Service at 800-877-8339 (this is a toll-free number).

SUPPLEMENTARY INFORMATION: On August 20, 2015, at 80 FR 50564, HUD published a final rule to streamline the portability process. Portability is a feature of the Housing Choice Voucher (HCV) Program that allows an eligible family with a housing choice voucher to use that voucher to lease a unit anywhere in the United States where there is a public housing agency (PHA) operating an HCV program. The purpose of the changes made to the portability regulations made by HUD's final rule published on August 10, 2015, is to enable PHAs to better serve families and expand housing opportunities by improving portability processes.

HUD received comments about the requirement and content of HCV family briefings. The majority of commenters, commenting on the briefings, expressed opposition to expanding the briefing requirements, stating that the existing briefing requirements are already complex and any expansion would increase administrative burden. In response to these comments, HUD stated that it determined that providing information about the factors the family should consider when determining where to lease a unit with voucher assistance will only be required as part of the briefing should HUD make such information available to PHAs for distribution. HUD stated that if required, PHAs are to provide such information as part of the oral briefing and the information packet provided to families selected to participate in the program, and that HUD would revised the regulation at § 982.301 accordingly. HUD further stated that an explanation of the benefits of living in low-poverty census tracts should be provided to all families, not just those families living in high-poverty census tracts. This explanation of benefits should also be included in the information packet provided to families selected to participate in the HCV program. (See 80 FR 50569, first column.) While HUD stated that it would amend § 982.301 accordingly, the corresponding amendments were inadvertently omitted from the regulatory text. Therefore, this document revises § 982.301 to include the missing regulatory text.

Correction

In the issue of August 20, 2015, at 80 FR 50564, FR Rule Doc. No. 2015-20551 is corrected as follows:

On page 50572, in the third column, amendatory instruction 4. and its amendatory text are corrected to read as follows:

4. In § 982.301, revise paragraphs (a)(1)(iii), (a)(2), (a)(3), (b)(1), (b)(4), (b)(9), (b)(11), and (b)(15) to read as follows:

§ 982.301 Information when family is selected.

(a) * * *

(1) * * *

(iii) Where the family may lease a unit, including renting a dwelling unit inside or outside the PHA jurisdiction, and any information on selecting a unit that HUD provides.

(2) An explanation of how portability works. The PHA may not discourage the family from choosing to live anywhere in the PHA jurisdiction, or outside the PHA jurisdiction under portability procedures, unless otherwise expressly authorized by statute, regulation, PIH Notice, or court order. The family must be informed of how portability may affect the family's assistance through screening, subsidy standards, payment standards, and any other elements of the portability process which may affect the family's assistance.

(3) The briefing must also explain the advantages of areas that do not have a high concentration of low-income families.

* * * * *

(b) * * *

(1) The term of the voucher, voucher suspensions, and PHA policy on any extensions of the term. If the PHA allows extensions, the packet must explain how the family can request an extension;

* * * * *

(4) Where the family may lease a unit and an explanation of how portability works, including information on how portability may affect the family's assistance through screening, subsidy standards, payment standards, and any other elements of the portability process which may affect the family's assistance.

* * * * *

(9) Materials (e.g., brochures) on how to select a unit and any additional information on selecting a unit that HUD provides.

* * * * *

(11) A list of landlords known to the PHA who may be willing to lease a unit to the family or other resources (e.g., newspapers, organizations, online search tools) known to the PHA that may assist the family in locating a unit. PHAs must ensure that the list of landlords or other resources covers areas outside of poverty or minority concentration.

* * * * *

(15) The advantages of areas that do not have a high concentration of low-income families.

Dated: August 25, 2015.
Camille E. Acevedo,
Associate General Counsel for Legislation and Regulations.

[FR Doc. 2015-21487 Filed 8-31-15; 8:45 am]

BILLING CODE 4210-67-P